DEPARTMENT OF LABOR

Employment and Training Administration

[TA-W-64,665; TA-W-64,665A]

Alcoa Howmet Castings, a Subsidiary of Alcoa, Incorporated, Thermatech Coatings and Titanium Ingot Division, Plant #4; Whitehall, MI; Alcoa Howmet Castings, a Subsidiary of Alcoa, Incorporated, Plant #5, Whitehall, MI; Notice of Negative Determination Regarding Application for Reconsideration

By application dated May 11, 2009, the United Automobile, Aerospace and Agricultural Implement Workers of America, Local 1243 (UAW) requested administrative reconsideration of the Department's Negative Determination regarding eligibility for workers and former workers of Alcoa Howmet Castings, a subsidiary of Alcoa, Inc., Thermatech Coatings and Titanium Ingot Division, Plant #4, Whitehall, Michigan, and Alcoa Howmet Castings, a subsidiary of Alcoa, Inc., Plant #5, Whitehall, Michigan, to apply for Trade Adjustment Assistance (TAA) and Alternative Trade Adjustment Assistance (ATAA). Workers at Plant #4 produce environmental coatings and titanium ingots, and are separately identifiable by product; workers at Plant #5 produce titanium castings, pattern wax, casting crucibles, and HIP (hot isostatic pressing), and are not separately identifiable by product.

The Department's determination was issued on April 24, 2009. The Department's Notice of Negative determination was published in the Federal Register on May 7, 2009 (74 FR 21407).

The determination stated that, with regards to Plant #4, criterion (a)(2)(A)(I.B.) was not met because sales and production of environmental coatings increased during the relevant period; criterion (a)(2)(B) was not met because the subject firm's production of environmental coatings did not shift to a foreign country during the relevant period; criterion (a)(2)(A)(I.C.) was not met because increased imports of titanium ingot did not contribute importantly to the workers' separations and subject firm sales and/or production declines of titanium ingot; and criterion (a)(2)(B) was not met because the subject firm's production of titanium ingot did not shift to a foreign country during the relevant period.

The determination stated that, with regards to Plant #5, criterion (a)(2)(A)(I.C.) was not met because increased imports of titanium castings, pattern wax, casting crucibles, or HIP processing did not contribute importantly to the workers' separations and subject firm sales and/or production declines of titanium castings, pattern wax, casting crucibles, or HIP processing and criterion (a)(2)(B) was not met because the subject firms' production of titanium castings, pattern wax, casting crucibles, or HIP processing did not shift to a foreign country during the relevant period.

In the request for reconsideration, the UAW representative stated that “sales will continue to decline * * * which supports (a)(2)(A)(I.B.) * * *”

The UAW representative's allegation that (a)(2)(A)(I.B.) was met (sales and/or production declined during the relevant period) is relevant to Plant #4 but is not relevant to Plant #5 because the Department determined that there were sales and/or production declines at Plant #5 during the relevant period. Therefore, the Department's review of the request for reconsideration is limited to sales and production of environmental coatings at Plant #4.

Pursuant to 29 CFR 90.18(c), administrative reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

After careful review of the request for reconsideration and previously submitted materials, the Department determines that there is no new information that supports a finding that Section 222 of the Trade Act of 1974 was satisfied and that no mistake or misinterpretation of the facts or of the law with regards to the number or proportion of workers separated from the subject firm during the relevant period.

Conclusion

After review of the application and investigative findings, I conclude that there has been no error or misinterpretation of the law or of the facts which would justify reconsideration of the Department of Labor's prior decision. Accordingly, the application is denied.

Signed at Washington, DC, this 12th day of June 2009.
Elliott S. Kushner,
Certifying Officer, Division of Trade Adjustment Assistance.

[FR Doc. E9-14765 Filed 6-23-09; 8:45 am]

BILLING CODE 4510-FN-P